DEPARTMENT OF TRANSPORTATION

National Highway Traffic Safety Administration

[Docket No. NHTSA-2012-0024; Notice 1]

Supreme Indiana Operations, Inc., Receipt of Petition for Decision of Inconsequential Noncompliance

AGENCY: National Highway Traffic Safety Administration, DOT.

ACTION: Receipt of petition.

SUMMARY: Startrans, a division of Supreme Indiana Operations, Inc., (Startrans) ¹ has determined that certain Startrans trucks, buses, and multifunction school activity buses (MFSAB) manufactured from 2006 through 2011, do not fully comply with paragraph S5.3 of Federal Motor Vehicle Safety Standard (FMVSS) No. 120, Tire selection and rims and motor home/recreation vehicle trailer load carrying capacity information for motor vehicles with a GVWR of more than 4,536 kilograms (10,000 pounds). Startrans has filed an appropriate report dated November 16, 2011, pursuant to 49 CFR part 573, Defect and Noncompliance Responsibility and Reports.

¹ Supreme Indiana Operations, Inc., is manufacturer of motor vehicles and is registered under the laws of the state of Delaware.

Pursuant to 49 U.S.C. 30118(d) and 30120(h) (see implementing rule at 49 CFR part 556), Startrans submitted a petition for an exemption from the notification and remedy requirements of 49 U.S.C. Chapter 301 on the basis that this noncompliance is inconsequential to motor vehicle safety.

This notice of receipt of Startrans' petition is published under 49 U.S.C. 30118 and 30120 and does not represent any agency decision or other exercise of judgment concerning the merits of the petition.

Vehicles involved: Affected are approximately: 97,271 Startrans 2006 through 2011 model year trucks, 9,543 Startrans 2007 through 2011 model year buses, and 436 model year 2007 through 2011 MFSAB.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject vehicles that Startrans no longer controlled at the time it determined that the noncompliance existed.

Noncompliance: Startrans explains that the noncompliance is that the height of the lettering on the combined certification and tire information labels attached to the subject vehicles is less than that required by paragraph S5.3 of FMVSS No. 120. The lettering on the noncompliant labels is only 2.12 millimeters (mm) in height. The height required by paragraph S5.3 is 2.4 mm.

Rule text: Paragraph S5.3 of FMVSS No. 120 requires in pertinent part:

S5.3 Each vehicle shall show the information specified in S5.3.1 and S5.3.2 and, in the case of a vehicle equipped with a non-pneumatic spare tire, the information specified in S5.3.3, in the English language, lettered in block capitals and numerals not less than 2.4 millimeters high and in the format set forth following this paragraph. This information shall appear either—

(a) After each GAWR listed on the certification label required by § 567.4 or § 567.5 of this chapter; or at the option of the manufacturer,

(b) On the tire information label affixed to the vehicle in the manner, location, and form described in § 567.4(b) through (f) of this chapter as appropriate of each GVWR-GAWR combination listed on the certification label.

Summary of Startrans' Analysis and Arguments

Startrans determined that the subject noncompliance existed after being notified by the NHTSA's Office of Vehicle Safety Compliance (OVSC) that an apparent noncompliance was identified during an OVSC FMVSS No. 120 compliance test of a model year 2010 Startrans MFSAB.

Startrans makes the argument that the subject noncompliance is not performance related and is inconsequential to vehicle safety. The font height of the text on the certification label is just 0.28 mm less than the requirement, but the label text is clear, legible and meets all the other labeling requirements.

Startrans also states that the number of vehicles that potentially require remedy is 107,250 and represents several concerns. These vehicles are already registered and currently represent no concern with licensing. To perform a remedy on this many vehicles invites the possibility of certification decals being reinstalled on the wrong vehicles.

Startrans has additionally informed NHTSA that it has corrected the noncompliance so that all future production vehicles will comply with FMVSS No. 120.

In summation, Startrans believes that the described noncompliance of its vehicles is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to: U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment Closing Date: April 23, 2012.

Authority: (49 U.S.C. 30118, 30120: delegations of authority at CFR 1.50 and 501.8)

Issued on: March 16, 2012.
Claude H. Harris,
Director, Office of Vehicle Safety Compliance.

[FR Doc. 2012-6852 Filed 3-21-12; 8:45 am]

BILLING CODE 4910-59-P